FEDERAL COMMUNICATIONS COMMISSION

47 CFR Part 73

[DA 00-2373; MM Docket No. 99-195; RM-9563, RM-9958]

Radio Broadcasting Services; Wheatland and Wright, WY

AGENCY: Federal Communications Commission.

ACTION: Final rule.

SUMMARY: The Commission, at the request of Mountain West Broadcasting, allots Channel 293C1 at Wheatland, Wyoming, as the community's second local FM transmission service (RM-9563) See 64 FR 29979, June 4 1999. At the request of Mount Rushmore Broadcasting, Inc., we also allot Channel 289A at Wheatland and Channel 224A at Wright, Wyoming, as each community's third local FM transmission service (RM-9958). Channel 293C1 can be allotted at Wheatland in compliance with the Commission's minimum distance separation requirements with a site restriction of 41 kilometers (25.5 miles) north; and Channel 289A can also be allotted to Wheatland at city reference coordinates. Additionally, Channel 224A can be allotted to Wright in compliance with the Commission's minimum distance separation requirements with a site restriction of 9.7 kilometers (6.0 miles) north to avoid a short-spacing to the allotment reference site for Channel 223C1, Douglas, Wyoming. The coordinates for Channel 293C1 at Wheatland are 42-25-32 North Latitude and 104-57-21 West Longitude; and the coordinates for Channel 289A at Wheatland are 42-03-16 North Latitude and 104-57-08 West Longitude. Additionally, the coordinates for Channel 224A at Wright are 43-50-02 North Latitude and 105-28-29 West Longitude.

DATES: Effective December 11, 2000. A filing window for Channels 289A and 293C1 at Wheatland, Wyoming, and Channel 224A at Wright, Wyoming, will not be opened at this time. Instead, the issue of opening filing windows for these channels will be addressed by the Commission in a subsequent order.

FOR FURTHER INFORMATION CONTACT: Sharon P. McDonald, Mass Media Bureau, (202) 418-2180.

SUPPLEMENTARY INFORMATION: This is a synopsis of the Commission's Report and Order, MM Docket No. 99-195, adopted October 11, 2000, and released October 20, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, 336.

§ 73.202 [Amended]

2. Section 73.202(b), the Table of FM Allotments under Wyoming, is amended by adding Channels 289A and 293C1 at Wheatland; and by adding Wright, Channel 224A.

Federal Communications Commission.
John A. Karousos,
Chief, Allocations Branch, Policy and Rules Division, Mass Media Bureau.

[FR Doc. 00-28687 Filed 11-8-00; 8:45 am]

BILLING CODE 6712-01-P